DEPARTMENT OF COMMERCE

National Oceanic and Atmospheric Administration

[RTID 0648-XD716]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a two day in-person meeting of its Standing, Reef Fish, Socioeconomic, and Ecosystem Scientific and Statistical Committees (SSC).

DATES: The meeting will be held Tuesday, February 27 and Wednesday, February 28, 2024; 8:30 a.m.-5 p.m. EST.

ADDRESSES: The meeting will take place at the Gulf Council office. Registration information will be available on the Council's website by visiting www.gulfcouncil.org and clicking on the “meeting tab”.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Tuesday, February 27, 2024; 8:30 a.m.-5 p.m., EST

The meeting will begin with Introductions and Adoption of Agenda, Scope of Work, review and approval of Minutes and Meeting Summary from the September and October 2023 SSC meetings.

Following, the SSC will review SEDAR 85: Gulf of Mexico Yellowedge Grouper, including presentations, fishermen feedback, and background documentation to support SSC discussion. The SSC will then review a Comparison of the Reef Fish and Snapper Grouper Fisheries of the Southeaster US, followed by a consideration of Deep-water Grouper Landings Data and Catch Limits. Public comment will be heard at the end of the day.

Wednesday, February 28, 2024; 8:30 a.m.-5 p.m., EST

The SSC will review and discuss the SEDAR 74: Gulf of Mexico Red Snapper Research Track, followed by a review of SEDAR Process Recommendations from SEDAR 74. Next, the SSC will discuss the SEDAR 96: Southeastern US Yellowtail Snapper Operational Assessment Terms of Reference and Participants for Recreational Data Tropical Working Group. The SSC will then review SEDAR 85: Gulf of Mexico Yellowedge Grouper Projections, followed by a discussion of Revised Black Grouper and Yellowfin Grouper Landings and Catch Limits. Lastly, the SSC will review the 2024 Gulf of Mexico Red Grouper Interim Analysis, which will not include catch advice. Public comment will be heard at the end of the day before any items under Other Business are discussed.

—Meeting Adjourns

The meeting will also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: February 5, 2024.
Rey Israel Marquez,
Acting Deputy Director, Office of Sustainable Fisheries, National Marine Fisheries Service.

[FR Doc. 2024-02616 Filed 2-7-24; 8:45 am]

BILLING CODE 3510-22-P